DEPARTMENT OF COMMERCE

Foreign-Trade Zones Board

[Docket 2-2003]

Foreign-Trade Zone 14—Little Rock, Arkansas, Application for Subzone, Lion Oil Co., (Oil Refinery), El Dorado, AR

An application has been submitted to the Foreign-Trade Zones Board (the Board) by the Arkansas Department of Economic Development, grantee of FTZ 14, requesting special-purpose subzone status for the oil refining facilities of Lion Oil Company (Lion), located in El Dorado, Arkansas. The application was submitted pursuant to the provisions of the Foreign-Trade Zones Act, as amended (19 U.S.C. 81a-81u), and the regulations of the Board (15 CFR part 400). It was formally filed on January 15, 2003.

The refinery complex (65,000 BPD capacity, 651,000 barrel storage capacity) consists of three sites in Union and Columbia Counties, Arkansas: Site 1 (407 acres)—main refinery complex, and Sand Hill Terminal located at 1000 McHenry Avenue, El Dorado; Site 2 (26 acres)—Amoco Station storage facility, located on American Road in El Dorado; Site 3 (42 acres)—Magnolia Station storage facility, located on Highway 25 in Magnolia. The refinery (412 employees) is used to produce fuels and other petroleum products. Products include gasoline, diesel, distillates, propane, propane/propylene mix, asphalts and sulfur. Some 60 percent of the crude oil (96 percent of inputs) is sourced abroad.

Zone procedures would exempt the refinery from Customs duty payments on the foreign products used in its exports. On domestic sales, the company would be able to choose the Customs duty rates that apply to certain petroleum products and refinery by-products (duty-free) by admitting incoming foreign crude in non-privileged foreign status. The duty rates on inputs range from 5.25 cents/barrel to 10.5 cents/barrel. The application indicates that the savings from zone procedures would help improve the plant's international competitiveness.

In accordance with the Board's regulations, a member of the FTZ staff has been appointed examiner to investigate the application and report to the Board. Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is March 31, 2003. Rebuttal comments in response to material submitted during the foregoing period may be submitted during the subsequent 15-day period (to April 14, 2003).

A copy of the application and accompanying exhibits will be available for public inspection at the Office of the Foreign-Trade Zones Board's Executive Secretary at the first address listed above, and at the U.S. Department of Commerce Export Assistance Center, 425 West Capital Avenue, Suite 700, Little Rock, AR 72201.

Dated: January 16, 2003.
Dennis Puccinelli,
Executive Secretary.

[FR Doc. 03-1904 Filed 1-27-03; 8:45 am]

BILLING CODE 3510-DS-P